DEPARTMENT OF HOMELAND SECURITY

Federal Emergency Management Agency

[Docket ID: FEMA-2023-0028; OMB No. 1660-0002]

Agency Information Collection Activities: Proposed Collection; Comment Request; Disaster Assistance Registration

AGENCY: Federal Emergency Management Agency, Department of Homeland Security.

ACTION: 60-Day notice of revision and request for comments.

SUMMARY: The Federal Emergency Management Agency (FEMA), as part of its continuing effort to reduce paperwork and respondent burden, invites the general public to take this opportunity to comment on a revision of a currently approved information collection. In accordance with the Paperwork Reduction Act of 1995, this notice seeks comments concerning changes to modernize and simplify the disaster assistance registration. The changes will reduce the burden on survivors by only requiring them to answer questions based on the type of assistance they need. This will also reduce the amount of time it takes for survivors to apply either online, or through a call center, therefore allowing call center agents to assist survivors more quickly.

DATES: Comments must be submitted on or before December 18, 2023.

ADDRESSES: To avoid duplicate submissions to the docket, please submit comments at www.regulations.gov under Docket ID FEMA-2023-0028. Follow the instructions for submitting comments.

All submissions received must include the agency name and Docket ID. Regardless of the method used for submitting comments or material, all submissions will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Brian Thompson, Supervisory Program Specialist, FEMA, Recovery Directorate at 540-686-3602 or Brian.Thompson6@fema.dhs.gov. You may contact the Information Management Division for copies of the proposed collection of information at email address: FEMA-Information-Collections-Management@fema.dhs.gov.

SUPPLEMENTARY INFORMATION: The Robert T. Stafford Disaster Relief and Emergency Assistance Act (Stafford Act) (Pub. L. 93-288, as amended) (42 U.S.C. 5121-5207) is the legal basis for FEMA to provide financial assistance and services to individuals who apply for disaster assistance benefits in the event of a Presidentially-declared disaster. Housing Assistance is a provision of the Individuals and Households Program, authorized by section 408(c) of the Stafford Act. There are two forms of assistance: financial and direct. Financial Housing Assistance refers to funds provided to eligible applicants for temporary lodging expenses, rental of temporary housing, or repair or replacement of a damaged primary residence. Direct Temporary Housing Assistance includes providing Temporary Housing Units through Multifamily Lease and Repair and Direct Lease, or placing transportable temporary housings, such as manufactured housing units and recreational vehicles or travel trailers, on private, commercial, or group sites.

This program provides financial assistance and, if necessary, direct assistance to eligible individuals and households who, as a direct result of a major disaster, have necessary expenses and serious needs that are unable to be met through other means. Individuals and households may apply for assistance through the Registration Intake process under the Individuals and Households Program in person, via telephone, or the internet. FEMA provides financial assistance under Other Needs Assistance to individuals or households affected by a major disaster to meet disaster-related medical, dental, funeral, childcare, personal property, transportation, moving and storage expenses, and other necessary expenses or serious needs resulting from a major disaster under section 408(e)(1) of the Stafford Act.

The changes to the following forms support Executive Order 14058, Transforming Federal Customer Experience and Service Delivery to Rebuild Trust in Government (86 FR 71357, December 16, 2021). The changes will rebuild trust in the Federal Government by promoting transparency of FEMA's Disaster Assistance application process. The major changes will decrease the amount of time to create a new registration and streamline the application process to create a simpler registration progression focused on an individual's specific recovery needs. Streamlining breaks the application process down into specific workflows in a more user-friendly format:

FEMA Forms FF-104-FY-21-123 (formerly 009-0-1T, English) and FF-104-FY-21-123-A (formerly 009-0-1T, Spanish), Tele-Registration Application for Disaster Assistance are being removed due to the addition of the ten Streamline Registration Intake workflows. The ten workflows are: Home Damage, Personal Property Damage, Vehicle Damage, Emergency Needs, Essential Utilities Outage, Funeral Expenses, Childcare Expenses, Lodging Expenses, Medical or Dental Expenses, and Expenses for Miscellaneous items (e.g., chainsaws, generators, etc.).

FEMA Form FF-104-FY-21-123-FA (English), Tele-Registration, is being removed and replaced with FEMA Form FF-104-FY-22-260, Streamline Registration Intake for Funeral Expenses, Disaster Assistance Registration.

FEMA Forms FF-104-FY-21-123 (formerly 009-0-1T, English) and FF-104-FY-21-123-A (formerly 009-0-1T, Spanish), Tele-Registration Application for Disaster Assistance are being removed due to the addition of the ten Streamline Registration Intake flows.

COVID-19 Funeral Assistance will remain in FEMA Template FT-104-FY-22-101, Request for Information (RFI)—Funeral Verification (English) until the COVID-19 application period ends.

This collection contains the proposed changes to the disaster application process that will reduce the time to apply for IHP assistance. This update specifically recognizes post launch usability and the public's responses to the changes which will also be non-substantive throughout as the updates are not specifically content driven. These changes will reduce the burden on survivors by only requiring them to answer questions based on the type of assistance they need.

In documenting all post-registration callouts, auto-dialer contacts and subsequent collection of data, FEMA can determine whether applicants have unmet needs, can process the applicant for financial or direct assistance sharing the results of those contacts directly with external stakeholders. This data is specifically used for FEMA and its stakeholders to determine whether assistance is warranted.

The notice also includes FEMA documenting all post-registration contacts, including callouts, casework, and auto-dialers performed for the purpose of determining whether disaster assistance applicants have unmet needs and may be eligible for additional assistance and/or share the results of those contacts directly with external stakeholders, such as state or local government partners, who can potentially assist those same applicants with assistance or services not provided by FEMA through specific programs directly targeted to disaster survivors.

This notice specifically recognizes post launch usability and feedback from the public. FEMA is seeking the public's comments on identifying ways on making this a more user-friendly collection and more functional to meet the end users-applicants' needs. The changes in this information collection will also be non-substantive throughout as the updates are not specifically content driven. These changes in the application process are, however, designed to not only reduce the burden on the public but also reduce the administrative burden through this modernization update.

Collection of Information

Title: Disaster Assistance Registration.

Type of Information Collection: Revision of a currently approved information collection.

OMB Number: 1660-0002.

FEMA Forms: FEMA Form FF-104-FY-21-122 (formerly 009-0-1, English), Paper Application, Disaster Assistance Registration; FEMA Form FF-104-FY-21-122-A (formerly 009-0-2, Spanish), Solicitud en Papel, Registro Para Asistencia De Desastre; FEMA Form FF-104-FY-21-123 (formerly 009-0-1T, English), Tele-Registration, Disaster Assistance Registration; FEMA Form FF-104-FY-21-123-A (formerly 009-0-1T, Spanish), Tele-Registration, Registro Para Asistencia De Desastre; FEMA Form FF-104-FY-21-123-COVID-FA (English), Tele-Registration, COVID-19 Funeral Assistance; FEMA Form FF-104-FY-21-125 (formerly 009-0-1Int, English), internet, Disaster Assistance Registration; FEMA Form FF-104-FY-21-125-A (formerly 009-0-2Int, Spanish), internet, Registro Para Asistencia De Desastre; FEMA Form FF-104-FY-21-127 (formerly 009-0-5, English), Manufactured Housing Unit Revocable License and Receipt for Government Property (Revocable License); FEMA Form FF-104-FY-21-127-A (formerly 009-0-6, Spanish), Licencia Revocable para la Unidad de Vivienda Temporera y Recibo para el uso de Propiedad del Gobierno (Licencia Revocable); FEMA Form FF-104-FY-21-128 (formerly 009-0-3, English), Declaration and Release; FEMA Form FF-104-FY-21-128-A (formerly 009-0-4, Spanish), Declaracion Y Autorizacion; FEMA Form FF-104-FY-22-255, Streamline Registration Intake for Home Damage, Disaster Assistance Registration; FEMA Form FF-104-FY-22-256, Streamline Registration Intake for Personal Property Damage, Disaster Assistance Registration; FEMA Form FF-104-FY-22-257, Streamline Registration Intake for Vehicle Property Damage, Disaster Assistance Registration; FEMA Form FF-104-FY-22-258, Streamline Registration Intake for Emergency Needs, Disaster Assistance Registration; FEMA Form FF-104-FY-22-259, Streamline Registration Intake for Essential Utilities Outage, Disaster Assistance Registration; FEMA Form FF-104-FY-22-260, Streamline Registration Intake for Funeral Expenses, Disaster Assistance Registration; FEMA Form FF-104-FY-22-261, Streamline Registration Intake for Childcare Expenses, Disaster Assistance Registration; FEMA Form FF-104-FY-22-262, Streamline Registration Intake for Lodging Expenses, Disaster Assistance Registration; FEMA Form FF-104-FY-22-263, Streamline Registration Intake for Medical or Dental Expenses, Disaster Assistance Registration; FEMA Form FF-104-FY-22-264, Streamline Registration Intake for Expenses for Miscellaneous Items, Disaster Assistance Registration; FEMA Template FT-104-FY-22-101, Request for Information (RFI)—Funeral Verification; FEMA Template FT-104-FY-22-102, Request for Information (RFI)—Ownership Verification; FEMA Template FT-104-FY-22-103, Request for Information (RFI)—Occupancy Verification; FEMA Template FT-104-FY-22-104, Request for Information (RFI)—Medical, Dental, Disability-Accessibility-Related Items.

Abstract: The forms in this collection are used to obtain pertinent information to provide financial assistance, and if necessary, direct assistance to eligible individuals and households who, as a direct result of a disaster or emergency, have uninsured or under-insured, necessary or serious expenses they are unable to meet. This revision of a currently approved information collection will improve the applicant's experience with the disaster assistance registration process by providing a simpler, more intuitive interface and limiting required responses to those needed based on their needs. These changes will help rebuild trust in the Federal Government by promoting transparency of FEMA's Disaster Assistance application process.

Affected Public: Individuals or households.

Estimated Number of Respondents: 2,366,134.

Estimated Number of Responses: 2,366,134.

Estimated Total Annual Burden Hours: 700,954.

Estimated Total Annual Respondent Cost: $30,246,167.

Estimated Respondents' Operation and Maintenance Costs: $0.

Estimated Respondents' Capital and Start-Up Costs: $0.

Estimated Total Annual Cost to the Federal Government: $33,303,400.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2023-23065 Filed 10-18-23; 8:45 am]

BILLING CODE 9111-24-P